FEDERAL RESERVE SYSTEM

Proposed Agency Information Collection Activities; Comment Request

AGENCY: Board of Governors of the Federal Reserve System

SUMMARY: Background. On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

Request for comment on information collection proposals

The following information collections, which are being handled under this delegated authority, have received initial Board approval and are hereby published for comment. At the end of the comment period, the proposed information collections, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected; and

d. Ways to minimize the burden of information collection on respondents, including through the use of automated collection techniques or other forms of information technology.

DATES: Comments must be submitted on or before July 9, 2007.

ADDRESSES: You may submit comments, identified by FR 2046 (OMB No. 7100-0289) or FR 4006 (OMB No. 7100-0129), by any of the following methods:

• Agency Web site: http://www.federalreserve.gov. Follow the instructions for submitting comments at http://www.federalreserve.gov/generalinfo/foia/ProposedRegs.cfm.

• Federal eRulemaking Portal: http://www.regulations.gov. Follow the instructions for submitting comments.

• E-mail: regs.comments@federalreserve.gov. Include the OMB control number in the subject line of the message.

• FAX: 202-452-3819 or 202-452-3102.

• Mail: Jennifer J. Johnson, Secretary, Board of Governors of the Federal Reserve System, 20th Street and Constitution Avenue, NW., Washington, DC 20551.

All public comments are available from the Board's web site at www.federalreserve.gov/generalinfo/foia/ProposedRegs.cfm as submitted, unless modified for technical reasons. Accordingly, your comments will not be edited to remove any identifying or contact information. Public comments may also be viewed electronically or in paper in Room MP-500 of the Board's Martin Building (20th and C Streets, NW.) between 9 a.m. and 5 p.m. on weekdays.

Additionally, commenters should send a copy of their comments to the OMB Desk Officer by mail to the Office of Information and Regulatory Affairs, U.S. Office of Management and Budget, New Executive Office Building, Room 10235, 725 17th Street, NW., Washington, DC 20503 or by fax to 202-395-6974.

FOR FURTHER INFORMATION CONTACT: A copy of the proposed form and instructions, the Paperwork Reduction Act Submission, supporting statement, and other documents that will be placed into OMB's public docket files once approved may be requested from the agency clearance officer, whose name appears below.

Michelle Shore, Federal Reserve Board Clearance Officer (202-452-3829), Division of Research and Statistics, Board of Governors of the Federal Reserve System, Washington, DC 20551. Telecommunications Device for the Deaf (TDD) users may contact (202-263-4869), Board of Governors of the Federal Reserve System, Washington, DC 20551.

Proposal to approve under OMB delegated authority the extension for three years, without revision, of the following reports:

1. Report title: Report of Selected Balance Sheet Items for Discount Window Borrowers

Agency form number: FR 2046

OMB control number: 7100-0289

Frequency: On occasion

Reporters: Depository institutions

Annual reporting hours: 894

Estimated average hours per response: Primary and Secondary Credit, 0.75 hour; Seasonal Credit, 0.25 hour

Number of respondents: 171

General description of report: This information collection is required to obtain or retain a benefit pursuant to section 10B of the Federal Reserve Act [12 U.S.C. § 347b] and is given confidential treatment [5 U.S.C. § 552(b)(4)].

Abstract: The Federal Reserve(s Regulation A, Extensions of Credit by Federal Reserve Banks, requires that the Federal Reserve review balance sheet data in determining whether to extend credit and to help ascertain whether undue use is made of such credit. Borrowers report certain balance sheet data for a period that encompasses the dates of borrowing. There are no proposed changes to the FR 2046; however, the Federal Reserve is clarifying the instructions.

2. Report title: Request for Extension of Time to Dispose of Assets Acquired in Satisfaction of Debts Previously Contracted

Agency form number: FR 4006

OMB control number: 7100-0129

Frequency: Annual

Reporters: Bank holding companies

Annual reporting hours: 180 hours

Estimated average hours per response: 5 hours

Number of respondents: 36

General description of report: This information collection is required to obtain a benefit pursuant to section 4(c)(2) of the Bank Holding Company Act [12 U.S.C. § 1843(c)(2)] and may be given confidential treatment upon request. The Federal Reserve has established a procedure for requesting an extension in its Regulation Y [12 C.F.R. § 225.22(d)(1)(ii)].

Abstract: A bank holding company that acquired voting securities or assets through foreclosure in the ordinary course of collecting a debt previously contracted may not retain ownership of those shares or assets for more than two years without prior Federal Reserve approval. There is no formal reporting form, and each request for extension must be filed at the appropriate Reserve Bank of the bank holding company. The Federal Reserve uses the information provided in the request to fulfill its statutory obligation to supervise bank holding companies.

Board of Governors of the Federal Reserve System, May 3, 2007.
Robert deV. Frierson,
Deputy Secretary of the Board.

[FR Doc. E7-8753 Filed 5-7-07; 8:45 am]

BILLING CODE 6210-01-S